DEPARTMENT OF COMMERCE

Foreign-Trade Zones Board

[B-10-2022]

Foreign-Trade Zone 221—Mesa, Arizona; Application for Reorganization Under Alternative Site Framework

An application has been submitted to the Foreign-Trade Zones (FTZ) Board by the City of Mesa, grantee of FTZ 221, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on March 28, 2022.

FTZ 221 was approved by the FTZ Board on April 25, 1997 (Board Order 883, 89 FR 25164, May 8, 1997) and expanded on January 7, 2008 (Board Order 1538, 73 FR 2442, January 15, 2008).

The current zone includes the following site: Site 1 (2,018 acres)—Phoenix Mesa Gateway Airport, east of Power Road, between Ray and Pecos Roads, Mesa.

The grantee's proposed service area under the ASF would be the City of Mesa, Arizona, as described in the application. If approved, the grantee would be able to serve sites throughout the service area based on companies' needs for FTZ designation. The application indicates that the proposed service area is adjacent to the Phoenix Customs and Border Protection port of entry.

The applicant is requesting authority to reorganize its existing zone to include its existing site as a “magnet” site. The ASF allows for the possible exemption of one magnet site from the “sunset” time limits that generally apply to sites under the ASF, and the applicant proposes that Site 1 be so exempted. No subzones/usage-driven sites are being requested at this time. The application would have no impact on FTZ 221's previously authorized subzones.

In accordance with the FTZ Board's regulations, Qahira El-Amin of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is June 3, 2022. Rebuttal comments in response to material submitted during the foregoing period may be submitted during the subsequent 15-day period to June 21, 2022.

A copy of the application will be available for public inspection in the “Online FTZ Information Section” section of the FTZ Board's website, which is accessible via www.trade.gov/ftz. For further information, contact Qahira El-Amin at Qahira.El-Amin@trade.gov.

Dated: March 29, 2022.
Andrew McGilvray,
Executive Secretary.

[FR Doc. 2022-07004 Filed 4-1-22; 8:45 am]

BILLING CODE 3510-DS-P